FEDERAL MARITIME COMMISSION

Notice of Agreements Filed

The Commission hereby gives notice of the filing of the following agreements under the Shipping Act of 1984. Interested parties may obtain copies of agreements by contacting the Commission's Office of Agreements at 202-523-5793 or via email at tradeanalysis@fmc.gov. Interested parties may submit comments on an agreement to the Secretary, Federal Maritime Commission, Washington, DC 20573, within 10 days of the date this notice appears in the Federal Register.

Agreement No.: 011611-002.

Title: MOL/APL Slot Transfer Agreement.

Parties: American President Lines, Ltd.; APL Co. PTE, Ltd.; and Mitsui O.S.K. Lines, Ltd.

Filing Party: David B. Cook, Esq.; Goodwin Procter LLP; 901 New York Ave., NW.; Washington, DC 20001.

Synopsis: The modification deletes the Trans-Atlantic trades from the agreement and expands the agreement in the Latin America trades to include ports on the U.S. Atlantic Coast and the Pacific Coasts of Central America and South America.

Agreement No.: 011896.

Title: Westwood/Star Sailing and Space Charter Agreement.

Parties: Westwood Shipping Lines, Inc. and Star Shipping A.S.

Filing Party: Pamela J. Auerbach, Esq.; Kirkland & Ellis LLP; 655 Fifteenth Street, NW.; Washington, DC 20005.

Synopsis: The proposed agreement would authorize the parties to operate a service and share space in the trade between the U.S. and Canadian Pacific Coasts and ports in Japan, Korea, and China. This is a refiling of an earlier agreement that was withdrawn.

Dated: January 14, 2005.
By Order of the Federal Maritime Commission.
Bryant L. VanBrakle,
Secretary.

[FR Doc. 05-1141 Filed 1-19-05; 8:45 am]

BILLING CODE 6730-01-P